DEPARTMENT OF COMMERCE

Bureau of Export Administration

15 CFR Parts 738, 740, 744 and 772

[Docket No. 001212346-0346-01]

RIN 0694-AB50

Addition of Brazil, Latvia, and Ukraine to the Nuclear Suppliers Group (NSG) and Other Revisions

AGENCY: Bureau of Export Administration, Commerce.

ACTION: Final rule.

SUMMARY: As a result of the admission of Brazil, Latvia, and Ukraine to the Nuclear Suppliers Group (NSG), this rule adds Brazil, Latvia, and Ukraine to Country Group A, Column A:4 (Nuclear Suppliers) and to the definition of “Nuclear Suppliers Group.” On February 12, 1997 (62 FR 6683), BXA published a regulation which removed the license requirement symbol for Brazil and Ukraine from the Commerce Country Chart, NP Column 1 (Nuclear Nonproliferation). This rule removes the license requirement symbol for Latvia from the Commerce Country Chart, NP Column 1. The Nuclear Supplies Group member countries have agreed to establish export licensing procedures for the transfer of items identified on the Annex to the “Nuclear-Related Dual-Use Equipment, Materials, and Related Technology List,” which is published by the International Atomic Energy Agency.

In addition, Austria, Finland, Ireland and Sweden are added to “Countries Not Subject to Certain Nuclear End-Use Restrictions in § 744.2(a)”, because of their commitment to nuclear non-proliferation.

This action will lessen the administrative burden on U.S. exporters, by decreasing licensing requirements for exports of items controlled for Nuclear Nonproliferation (NP) reasons to these countries.

DATES: This rule is effective April 9, 2001.

FOR FURTHER INFORMATION CONTACT: For questions of a general nature, call Sharron Cook, Regulatory Policy Division, at (202) 482-2440.

For questions of a technical nature, contact Steve Claggett, Nuclear Technology Division, at (202) 482-3550.

SUPPLEMENTARY INFORMATION:

Background

As a result of the admission of Brazil, Latvia, and Ukraine to the Nuclear Suppliers Group (NSG), this rule revises Supplement Number 1 to part 740, Country Group A, by adding the symbol “X” to Column A:4 (Nuclear Suppliers) for Brazil, adding the countries Latvia and Ukraine to Country Group A, and adding the symbol “X” to Column A:4 (Nuclear Suppliers) for Latvia and Ukraine.

Austria, Finland, Ireland, and Sweden are added to the list of countries not subject to certain nuclear end-use restrictions in § 744.2(a) in Supplement Number 3 to part 744. As a matter of policy, the United States has carried out all significant peaceful nuclear cooperation (export of nuclear material, reactors, and major reactor components) with EURATOM (The European Atomic Energy Community) as a single entity from the beginning of EURATOM's existence.

The United States regards the EURATOM safeguards system as providing an important means of verifying that nuclear items exported by the United States are used for exclusively peaceful, non-explosive purposes.

Lastly, this rule revises the definition for “Nuclear Suppliers Group (NSG)”, in part 772, to include Brazil, Latvia, and Ukraine.

Rulemaking Requirements

1. This final rule has been determined not to be significant for purposes of Executive Order 12866.

2. Notwithstanding any other provision of law, no person is required to respond to nor be subject to a penalty for failure to comply with a collection of information subject to the requirements of the Paperwork Reduction Act unless that collection of information displays a current valid OMB Control Number. This regulation involves collections previously approved by the Office of Management and Budget under control numbers 0694-0088, “Multi-Purpose Application,” which carries a burden hour estimate of 45 minutes per manual submission and 40 minutes per electronic submission. Miscellaneous and recordkeeping activities account for 12 minutes per submission.

3. This rule does not contain policies with Federalism implications as that term is defined in Executive Order 12612.

4. The provisions of the Administrative Procedure Act requiring notice of proposed rule making, the opportunity for public participation, and a delay in effective date, are inapplicable because this regulation involves a military or foreign affairs function of the United States (see 5 U.S.C. 553(a)(1)). Further, no other law requires that a notice of proposed rule making and an opportunity for public comment be given for this rule. Because a notice of proposed rule making and opportunities for public comment are not required to be given for this rule by 5 U.S.C. 553, or by any other law, the analytical requirements of the Regulatory Flexibility Act, 5 U.S.C. 601 et seq., are inapplicable.

Therefore, this regulation is issued in final form. Although there is no formal comment period, public comments on this regulation are welcome on a continuing basis. Comments should be submitted to Sharron Cook, Office of Exporter Services, Bureau of Export Administration, Department of Commerce, P.O. Box 273, Washington, DC 20044.

List of Subjects

15 CFR Parts 738 and 772

Exports, Foreign trade.

15 CFR Part 740

Administrative practice and procedure, Exports, Foreign trade, Reporting and recordkeeping requirements.

15 CFR Part 744

Exports, Foreign trade, Reporting and recordkeeping requirements.

Accordingly, parts 738, 740, 744 and 772 of the Export Administration Regulations (15 CFR parts 730-799) are amended as follows:

1. The authority citation for 15 CFR part 738 is revised to read as follows:

Authority: 50 U.S.C. app. 2401 et seq.; Pub. L. No. 106-508; 50 U.S.C. 1701 et seq.; 10 U.S.C. 7420; 10 U.S.C. 7430(e); 18 U.S.C. 2510 et seq.; 22 U.S.C. 287c; 22 U.S.C. 3201 et seq.; 22 U.S.C. 6004; 30 U.S.C. 185(s), 185(u); 42 U.S.C. 2139a; 42 U.S.C. 6212; 43 U.S.C. 1354; 46 U.S.C. app. 466c; 50 U.S.C. app. 5; E.O. 12924, 59 FR 43437, 3 CFR, 1994 Comp., p. 917; E.O. 13026, 61 FR 58767, 3 CFR, 1996 Comp., p. 228; Notice of August 3, 2000 (65 FR 48347, August 8, 2000).

2. The authority citation for 15 CFR parts 740 and 772 is revised to read as follows:

Authority: 50 U.S.C. app. 2401 et seq.; Pub. L. No. 106-508; 50 U.S.C. 1701 et seq.; E.O. 12924, 59 FR 43437, 3 CFR, 1994 Comp., p. 917; E.O. 13026, 61 FR 58767, 3 CFR, 1996 Comp., p. 228; Notice of August 3, 2000 (65 FR 48347, August 8, 2000).

3. The authority citation for 15 CFR part 744 is revised to read as follows:

Authority: 50 U.S.C. app. 2401 et seq.; Pub. L. No. 106-508; 50 U.S.C. 1701 et seq.; 22 U.S.C. 3201 et seq.; 42 U.S.C. 2139a; E.O. 12058, 43 FR 20947, 3 CFR, 1978 Comp., p. 179; E.O. 12851, 58 FR 33181, 3 CFR, 1993 Comp., p. 608; E.O. 12924, 59 FR 43437, 3 CFR, 1994 Comp., p. 917; E.O. 12938, 59 FR 59099, 3 CFR, 1994 Comp., p. 950; E.O. 13026, 61 FR 58767, 3 CFR, 1996 Comp., p. 228; Notice of November 9, 2000 (65 FR 68063, November 13, 2000); Notice of August 3, 2000 (65 FR 48347, August 8, 2000).

PART 738—[AMENDED]

3a. Supplement No. 1 to part 738 is amended by removing the “X” under “NP 1” in the “Nuclear non-proliferation” column for “Latvia.”

PART 740—[AMENDED]

4. Supplement Number 1 to part 740 is amended in the table for Country Group A by adding entries for Latvia and Ukraine in alphabetic order and revising the entry for Brazil to read as follows:

Supplement No. 1 to Part 740

Country Group A
Country |  | Missile technology control regime | Australia group | Nuclear suppliers group
| [A:1] | [A:2] | [A:3] | [A:4]
Brazil |  | X |  | X
* * * * * * *
Latvia |  |  |  | X
* * * * * * *
Ukraine |  |  |  | X
* * * * * * *

* * * * *

PART 744—[AMENDED]

5. Supplement No. 3 to part 744, Countries Not Subject to Certain Nuclear End-Use Restrictions in § 744.2(a), is amended by adding the countries, “Austria,” “Finland,” “Ireland,” and “Sweden” in alphabetical order.

PART 772—[AMENDED]

6. Section 772.1 is amended by revising the definition of “Nuclear Suppliers Group (NSG)” to read as follows:

§ 772.1 Definitions of terms as used in the Export Administration Regulations (EAR).

* * * * *

Nuclear Suppliers Group (NSG). The United States and other nations in this multilateral control regime have agreed to guidelines for restricting the export or reexport of items with nuclear applications. Members include: Argentina, Australia, Austria, Belgium, Brazil, Bulgaria, Canada, Czech Republic, Denmark, Finland, France, Germany, Greece, Hungary, Ireland, Italy, Japan, Latvia, Luxembourg, the Netherlands, New Zealand, Norway, Poland, Portugal, Republic of Korea, Romania, Russia, Slovak Republic, Spain, South Africa, Sweden, Switzerland, Ukraine, the United Kingdom, and the United States. See also § 742.3 of the EAR.

* * * * *

Dated: April 3, 2001.
Matthew S. Borman,
Deputy Assistant Secretary for Export Administration.

[FR Doc. 01-8634 Filed 4-6-01; 8:45 am]

BILLING CODE 3510-33-P